DEPARTMENT OF TRANSPORTATION

Federal Aviation Administration

14 CFR Part 39

[Docket No. FAA-2013-0973; Directorate Identifier 2013-NM-139-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 series airplanes; Airbus Model A300 B4-600, B4-600R, and F4-600R series airplanes, and Model A300 C4-605R Variant F airplanes (collectively called Model A300-600 series airplanes); and A310 series airplanes. This proposed AD was prompted by reports of failures of the right inner tank fuel pump. This proposed AD would require repetitive functional tests of the circuit breakers for the fuel pump power supply, and replacement of any circuit breaker that fails any functional test or is found to be stuck closed. We are proposing this AD to detect and correct failure of the thermal fuses in the fuel pumps, which could result in a fuel pump overheating, leading to a fuel tank explosion.

DATES: We must receive comments on this proposed AD by January 6, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2013-0973; Directorate Identifier 2013-NM-139-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0163, dated July 24, 2013 (referred to after this as the Mandatory Continuing Airworthiness Information, or “the MCAI”), to correct an unsafe condition for the specified products. The MCAI states:

Two successive failures have been reported of a Right Hand # 1 inner tank fuel pump, Part Number 2052Cxx series (with placeholder “xx” indicating numerals). The fix consisted in the replacement of the pump, the associated circuit breaker and the AC [alternating current] bus load relay.

Investigations determined that, in case of loss of one phase on the pump supply and the associated circuit breaker failing to trip, the fuel pump thermal fuses may not operate as quickly as expected.

This condition, if not detected and corrected, would result in an overheat condition of the fuel pump in excess of 200 °C and could lead to a fuel tank explosion.

To address this potential unsafe condition, Airbus issued Alert Operator Transmission (AOT) A28W002-13 providing instructions for a functional test of circuit breakers and corrective action.

For the reasons described above, as a temporary measure until further notice, this [EASA] AD mandates functional tests of the affected fuel pump power supply circuit breakers, and, depending on findings, replacement of circuit breakers.

This [EASA] AD will be followed by further [EASA] AD action.

You may examine the MCAI in the AD docket on the Internet at http://www.regulations.gov by searching for and locating it in Docket No. FAA-2013-0973.

Relevant Service Information

Airbus has issued Alert Operators Transmission A28W002-13, dated July 23, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 156 airplanes of U.S. registry.

We estimate the following costs to comply with this proposed AD:

Estimated Costs
Action | Labor cost | Parts cost | Cost per product | Cost on U.S. operators
Repetitive functional tests | 1 work-hour × $85 per hour = $85 per test | $0 | $85 per test | $ 13,260 per test.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0973; Directorate Identifier 2013-NM-139-AD.

(a) Comments Due Date

We must receive comments by January 6, 2014.

(b) Affected ADs

None.

(c) Applicability

This AD applies to the Airbus airplanes specified in paragraphs (c)(1), (c)(2), (c)(3), (c)(4), (c)(5), and (c)(6) of this AD; certificated in any category; all serial numbers.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(6) Model A310-203, -204, -221, -222, -304, 322, -324, and -325 airplanes.

(d) Subject

Air Transport Association (ATA) of America Code 28, Fuel.

(e) Reason

This AD was prompted by reports of failures of the right inner tank fuel pump. We are issuing this AD to detect and correct failure of the thermal fuses in the fuel pumps, which could result in a fuel pump overheating, leading to a fuel tank explosion.

(f) Compliance

You are responsible for having the actions required by this AD performed within the compliance times specified, unless the actions have already been done.

(g) Repetitive Functional Tests of Circuit Breakers

(1) Within 6 months or 500 flight hours after the effective date of this AD, whichever occurs first: Do a functional test of the circuit breakers for the fuel pump power supply, as identified in paragraphs (g)(1)(i), (g)(1)(ii), and (g)(1)(iii) of this AD, as applicable, in accordance with Airbus Alert Operators Transmission A28W002-13, dated July 23, 2013. Repeat the functional test thereafter at intervals not to exceed 6 months or 500 flight hours, whichever occurs first.

(i) For Airbus Model A300 B2-1A, B2-1C, B2K-3C, and B2-203 airplanes: Inner and outer pump, No. 1 and No. 2 left-hand (LH) side and right-hand (RH) side.

(ii) For Airbus Model A300 B4-2C, B4-103, B4-203, B4-601, B4-603, B4-620, and B4-622 airplanes; and A310-203, -204, -221, and -222 airplanes:

(A) Inner and outer pump, No. 1 and No. 2, LH and RH; and

(B) Center pump, LH and RH.

(iii) For Airbus Model A300 B4-605R, B4-622R, F4-605R, F4-622R, and C4-605R Variant F airplanes; and A310-304, -322, -324, and -325 airplanes:

(A) Inner and outer pump, No. 1 and No. 2, LH and RH; and

(B) Center pump, LH and RH; and

(C) Trim tank pump No. 1 and No. 2.

(2) If, during any functional test required by paragraph (g)(1) of this AD, any circuit breaker fails any functional test, or any circuit breaker is found to be stuck closed, before further flight, replace the affected circuit breaker with a serviceable part, in accordance with Airbus Alert Operators Transmission A28W002-13, dated July 23, 2013.

(3) The replacement of one or more circuit breakers as required by paragraph (g)(2) of this AD does not terminate the repetitive functional tests required by paragraph (g)(1) of this AD.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent or the Design Approval Holder with a State of Design Authority's design organization approval). For a repair method to be approved, the repair approval must specifically refer to this AD. You are required to ensure the product is airworthy before it is returned to service.

(i) Related Information

(1) Refer to Mandatory Continuing Airworthiness Information European Aviation Safety Agency Airworthiness Directive 2013-0163, dated July 24, 2013, for related information. This MCAI may be found in the AD docket on the Internet at http://www.regulations.gov by searching for and locating it in Docket No. FAA-2013-0973.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on November 15, 2013.
John P. Piccola,
Acting Manager, Transport Airplane Directorate, Aircraft Certification Service.

[FR Doc. 2013-28120 Filed 11-21-13; 8:45 am]

BILLING CODE 4910-13-P